NUCLEAR REGULATORY COMMISSION

[NRC-2016-0168; NRC-2016-0167]

Request for a License Amendment to Export Radioactive Waste: Perma-Fix Northwest, Inc.

AGENCY: Nuclear Regulatory Commission.

ACTION: Opening of comment period on application to Amend License to Export Radioactive Waste.

SUMMARY: The U.S. Nuclear Regulatory Commission (NRC) is opening the opportunity for public comment; and opening the opportunity to request a hearing or a petition to intervene for an amendment application to export radioactive waste filed by Perma-Fix Northwest, Inc. (Perma-Fix).

DATES: The comment period for the “Request to Amend a License to Export Radioactive Waste” has been opened. Comments should be filed no later than May 22, 2017. Comments received after this date will be considered, if it is practical to do so, but the Commission is able to ensure consideration only for comments received on or before this date.

ADDRESSES: You may submit comments by any of the following methods:

• Federal Rulemaking Web site: Go to http://www.regulations.gov and search for NRC-2016-0167 for the “Request for a License to Export Radioactive Waste”. Address questions about NRC dockets to Carol Gallagher; telephone: 301-415-3463; email: Carol.Gallagher@nrc.gov. For technical questions, contact the individual listed in the FOR FURTHER INFORMATION CONTACT section of this document.

• Email comments to: Hearingdocket@nrc.gov. If you do not receive an automatic email reply confirming receipt, then contact the Office of the Secretary at 301-415-1677.

• Fax comments to: Secretary, U.S. Nuclear Regulatory Commission at 301-415-1101.

• Mail comments to: Secretary, U.S. Nuclear Regulatory Commission, Washington, DC 20555-0001, ATTN: Rulemakings and Adjudications Staff.

• Hand deliver comments to: 11555 Rockville Pike, Rockville, Maryland 20852, between 7:30 a.m. and 4:15 p.m. (Eastern Time) Federal workdays; telephone: 301-415-1677.

For additional direction on obtaining information and submitting comments, see “Obtaining Information and Submitting Comments” in the SUPPLEMENTARY INFORMATION section of this document.

FOR FURTHER INFORMATION CONTACT: Andrea Jones, Office of International Programs, U.S. Nuclear Regulatory Commission, Washington DC 20555-0001; telephone: 301-287-9072, email: Andrea.Jones2@nrc.gov.

SUPPLEMENTARY INFORMATION:

I. Obtaining Information and Submitting Comments

A. Obtaining Information

Please refer to Docket ID NRC-2016-0167, when contacting the NRC about the availability of information for this action. You may obtain publicly-available information related to this action by any of the following methods:

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2016-0167, in your comment submission.

The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On January 5, 2017, NRC received applications from Perma-Fix Northwest, Inc. (Perma-Fix) requesting amendment 05 to both a specific import license (IW022) and a specific export license (XW012) for import and export, respectively, of radioactive waste. (ADAMS Accession Nos. ML17005A377 and ML17005A373, respectively].¹ Notice of receipt of the applications were provided in Federal Register notices issued on March 6, 2017 and March 7, 2017 (82 FR 12640-12641 and 82 FR 12858, respectively).

¹ The NRC previously returned without action earlier-filed Perma-Fix applications to amend the same import and export licenses because the prior applications were unclear as to the material proposed to be imported and exported. [ADAMS Accession No. ML16291A466].

On March 22, 2017, the NRC returned the import amendment application without further action [ADAMS Accession No. ML17082A001]. The reason for the return of the application is that the material proposed for import does not meet the definition of radioactive waste in 10 CFR 110.2, because Perma-Fix will not be importing any of the material for ultimate disposal in the U.S. As such, the requested import activities are authorized under an NRC general import license pursuant to 10 CFR 110.27.

Given the return without action of Perma-Fix's import amendment application, the only regulatory action pending before the NRC is Perma-Fix's application to amend its specific export license (XW012) for the export of low-level radioactive waste to Canada. The export license amendment is requested to change the point of contact; change the foreign supplier name; remove references to the waste classification as defined in 10 CFR 61.55 and references to Table A2 values of 49 CFR 173.435; and extend the date of expiration from September 30, 2017, to September 30, 2022.

The NRC is noticing the request to amend the license to export radioactive waste; opening the opportunity for public comment; and opening the opportunity to file a request for a hearing or petition for leave to intervene on XW012 for an additional 30 days after publication of this notice in the Federal Register (FR). Any request for hearing or petition for leave to intervene shall be served by the requestor or petitioner upon the applicant, the office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007 (72 FR 49139; August 28, 2007). Information about filing electronically is available on the NRC's public Web site at http://www.nrc.gov/site-help/e-submittals.html. To ensure timely electronic filing, at least 5 days prior to the filing deadline, the petitioner/requestor should contact the Office of the Secretary by email at hearingdocket@nrc.gov, or by calling 301-415-1677, to request a digital ID certificate and allow for the creation of an electronic docket.

In addition to a request for hearing or petition for leave to intervene, written comments, in accordance with 10 CFR 110.81, should be submitted within thirty days after publication of this notice in the Federal Register to Office of the Secretary, U.S. Nuclear Regulatory Commission, Washington, DC 20555, Attention: Rulemaking and Adjudications.

The information concerning this application for an export license follows.

NRC Export License Amendment Application
[Description of material]
Name of Applicant, date of application, date received, application No., docket No., ADAMS Accession No. | Material type | Total quantity | End use | Country of destination
Perma-Fix Northwest, Inc, January 5, 2017, XW012/05, 11005699, ML17005A373 | Class A, B, or C radioactive waste | No to exceed 5,500 tons | Amend to: (1) Change the licensee's point of contact; (2) change the foreign suppliers name from Atomic Energy of Canada Limited to Canadian Nuclear Laboratories; (3) remove reference to Waste Classification as defined in 10 CFR 61.55 and reference to Table A2 values of 49 CFR 173.435 from the waste description; and (4) change the date of expiration from September 30, 2017 to September 30, 2022 | Canada.

Dated at Rockville, Maryland, this 12th day of April 2017.
For the Nuclear Regulatory Commission.
David L. Skeen,
Deputy Director, Office of International Programs.

[FR Doc. 2017-07824 Filed 4-19-17; 8:45 am]

BILLING CODE 7590-01-P